ENVIRONMENTAL PROTECTION AGENCY

[FRL OPRM-FAD-203]

Environmental Impact Statements; Notice of Availability

Responsible Agency: Office of Federal Activities, General Information 202-993-3272 or https://www.epa.gov/nepa.

Weekly receipt of Environmental Impact Statements (EIS).

Filed December 19, 2025 10 a.m. EST through December 26, 2025 10 a.m. EST.

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250175, Final, TVA, AL, Spring Valley II Solar Project, Review Period Ends: 01/30/2026, Contact: Elizabeth Smith 865-632-3053.

Dated: December 29, 2025.
Prasad Chumble,
Acting Director, Federal Activities Division.

[FR Doc. 2025-24190 Filed 12-31-25; 8:45 am]

BILLING CODE 6560-50-P